DEPARTMENT OF THE TREASURY

Agency Information Collection Activities; Submission for OMB Review; Comment Request; Multiple Fiscal Service Information Collection Requests

AGENCY: Departmental Offices, Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before September 29, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202)-622-1035, or viewing the entire information collection request at www.reginfo.gov.

SUPPLEMENTARY INFORMATION:

Bureau of the Fiscal Service (BFS)

1. Title: Request By Owner or Person Entitled to Payment or Reissue of United States Savings Bonds/Notes Deposited in Safekeeping When Original Custody Receipts Are Not Available

OMB Number: 1530-0024.

Form Number: FS Form 4239.

Abstract: The information is necessary to request payment or reissue of Savings Bonds/Notes held in safekeeping when original safekeeping custody receipts are not available.

Type of Review: Extension of a currently approved collection.

Affected Public: Individuals or Households.

Estimated Number of Respondents: 1,400.

Estimated Time per Respondent: 10 minutes.

Estimated Total Annual Burden Hours: 233.

2. Title: Application For Disposition of Retirement Plan and/or Individual Retirement Bonds Without Administration of Deceased Owner's Estate

OMB Number: 1530-0032.

Form Number: FS Form 3565.

Abstract: The information is used to support a request for recognition as a person entitled to United States Retirement Plan and/or Individual Retirement bonds which belonged to a deceased owner when a legal representative has not been appointed for the estate and no such appointment is pending.

Type of Review: Extension of a currently approved collection.

Affected Public: Individuals or Households.

Estimated Number of Respondents: 350.

Estimated Time per Respondent: 20 minutes.

Estimated Total Annual Burden Hours: 117.

3. Title: Regulations Governing U.S. Treasury Securities—State and Local Government Series

OMB Number: 1530-0044.

Abstract: The regulations govern U.S. Treasury bonds, notes and certificates of indebtedness of the States and Local Government Series. The collection of information is necessary to enable Treasury to establish an investor's account, to issue securities, to ensure that an investor meets the certification requirements, to redeem securities either at or prior to maturity, and to obtain necessary documentation where a waiver is involved.

Type of Review: Extension of a currently approved collection.

Affected Public: State or Local or Governments.

Estimated Number of Respondents: 60.

Estimated Time per Respondent: 13 minutes.

Estimated Total Annual Burden Hours: 13.

4. Title: Claim for United States Savings Bonds Not Received

OMB Number: 1530-0048.

Form Number: FS Form 3062-4.

Abstract: The information is used to support a request for relief on account of the nonreceipt of United States Savings Bonds.

Type of Review: Extension of a currently approved collection.

Affected Public: Individuals or Households.

Estimated Number of Respondents: 1,000.

Estimated Time per Respondent: 10 minutes.

Estimated Total Annual Burden Hours: 167.

Authority: 44 U.S.C. 3501 et seq.

Melody Braswell,
Treasury PRA Clearance Officer.

[FR Doc. 2022-18718 Filed 8-29-22; 8:45 am]

BILLING CODE 4810-AS-P